DEPARTMENT OF EDUCATION

Applications for New Awards; Teacher Incentive Fund

AGENCY: Office of Innovation and Improvement, Department of Education.

ACTION: Notice.

Overview Information

Teacher Incentive Fund (TIF).

Notice inviting applications for new awards for fiscal year (FY) 2016.

Catalog of Federal Domestic Assistance (CFDA) Number: 84.374A.

DATES: Applications Available: May 31, 2016.

Deadline for Notice of Intent To Apply: June 30, 2016.

Dates of Pre-Application Workshops: For information about pre-application workshops, visit the TIF Web site at: http://innovation.ed.gov/what-we-do/teacher-quality/teacher-incentive-fund/.

Deadline for Transmittal of Applications: July 15, 2016.

Deadline for Intergovernmental Review: September 28, 2016.

Full Text of Announcement

I. Funding Opportunity Description

Purpose of Program: The purpose of the TIF program is to support, develop, and implement sustainable Performance-based Compensation Systems for teachers, principals, and other personnel in High-Need Schools,¹ within the context of a local educational agency's (LEA's) overall Human Capital Management System, in order to increase Educator effectiveness and student achievement in those schools.

¹ Throughout this notice, all defined terms are denoted with initial capitals.

Background: The TIF program is based on the premise, supported by 20 years of research, that effective teachers are the most critical in-school factor in improving student outcomes. Recent research suggests that principals and principal quality are also key, but often overlooked, in-school factors for improving student outcomes. Given the importance of ensuring that Educators are as effective as possible—especially for high-need students—the TIF program uses performance-based compensation and related supports for Educators to catalyze improvements in a district's human capital management and in student outcomes.

The Department designed each of the previous three TIF competitions in FYs 2006, 2010, and 2012 to build on earlier efforts as the Department, States, districts, and schools learned more about how to support Educators in their efforts to help students learn. Through the most recent TIF competition (in FY 2012), the Department funded projects that encompassed broader human capital management systems that supported sustainable performance-based compensation. This is in contrast to earlier TIF competitions, which focused almost exclusively on the provision of annual one-time bonuses. The FY 2012 competition also focused on projects under which grantees deployed a variety of human capital management strategies throughout an Educator's career trajectory (e.g., from pre-service through retention) to help support and sustain the grantees' performance-based compensation systems.

For example, several grantees in the FY 2012 cohort changed their district-wide compensation systems to: (1) Allow Educators who demonstrate effectiveness to earn significantly higher pay or to significantly accelerate the timeline for increased compensation, particularly for those Educators in High-Need Schools and subjects; (2) provide incentives and supports to increase the number of effective Educators who are recruited and retained in High-Need Schools; (3) develop and implement career ladders to give Educators opportunities for leadership and advancement inside and outside the classroom; and (4) implement a salary system where increases are based in part on effectiveness. This expanded strategy of incentivizing effective Educators through performance-based compensation aligns with the purpose and goals of the TIF program.

There is no single set of best practices that districts should use to demonstrate their readiness to implement innovative human capital management strategies, including performance-based compensation. We know, however, that when TIF grantees have a set of human capital policies and practices in place at the outset of the grant period that support and align with their performance-based compensation strategies, these grantees face fewer challenges in implementing transformation efforts than those without such a foundation in place. The experience of these grantees demonstrates that building the systems and tools designed to evaluate, support, and manage Educators in ways that support and sustain their performance-based compensation requires districts to make significant infrastructure and capacity commitments, including: a district-wide, Educator evaluation and support system that includes multiple measures, including gains in student achievement, and meaningfully differentiates performance levels of Educators; data systems that collect and report on the elements of an Educator evaluation and support system in clear and coherent ways; a range of mechanisms to identify specific areas for Educator development and support, and for providing that support; and practices that enable administrators, school leaders, and Educators to communicate and influence the implementation of these systems. Efforts to create these kinds of systems and tools are more likely to drive enduring, sustainable improvements in Educator practice and student learning if they are aligned with the current district work to improve student outcomes and produce valid, reliable, and trusted information. A robust Educator evaluation system—one that uses, among other things, gains in student academic achievement and multiple annual observations—is not only statutorily required for TIF grantees, but is also critical to the readiness of a district to take on this work.

Additionally, TIF grantees are more successful when they collaborate with key stakeholders in designing, implementing, and continuously improving their projects. A district's Performance-based Compensation System, developed with the input of teachers and school leaders in the schools to be served by the grant, prepares districts to immediately take on this work by regularly seeking the feedback of Educators on initiatives and programs that impact schools. Districts that have systems in place for seeking this feedback demonstrate an understanding of the critical role Educator voice plays in successful human capital transformation. Common effective practices include initial design teams that bring together teachers and principals; task forces to tackle specific issues, such as selecting a rubric for use in evaluations; and focus groups that provide feedback on proposed career ladder systems or new compensation models. This ongoing engagement is critical to obtaining Educator buy-in to, and the success of, high-quality evaluation and support systems that are critical to a viable, meaningful Performance-based Compensation System.

District-level human capital strategies have shifted significantly since the FY 2012 competition. In recent years, many State educational agencies (SEAs) and LEAs have developed high-quality educator evaluation and support systems as part of comprehensive reform strategies implemented consistent with competitive federal awards and flexibility offered by the Department under the Elementary and Secondary Education Act of 1965, as amended (ESEA). States and Districts have used these systems as part of their efforts to improve districts' hiring practices, provide Educators with meaningful feedback and targeted professional development, and use Educator performance information to inform key school- and district-level decisions, such as teacher placement or leadership opportunities. Consequently, an increasing number of districts are prepared to make more informed human capital decisions that both support Educators and improve student outcomes. While section 4(c) of the Every Student Succeeds Act (ESSA) (Pub. L. 114-95, December 10, 2015) ends waivers under ESEA flexibility as of August 1, 2016, section 2101(c)(4)(B)(ii) of the ESEA, as amended by ESSA, provides States and districts with explicit authority to “support the design and implementation of teacher, principal, or other school leader evaluation and support systems.” This will allow States and districts to continue to improve the systems they have established.

While SEAs and LEAs have made substantial progress, additional work is needed to ensure that these Educator evaluation and support systems are robust, relevant, reliably producing trusted information, and seamlessly integrated into school- and district-level human capital processes. In some cases, this may mean expanding or improving existing approaches within a current educator evaluation and support system, by, for example, providing more mentoring and coaching opportunities for Educators. In other cases, districts may be well-positioned to take on new challenges or opportunities that affect Educator effectiveness, such as partnering with institutions of higher education to strengthen pre-service programming.

Finally, SEAs are now engaged in renewed efforts to ensure that high-need students have equitable access to the most effective Educators. Research indicates that students' race and family income often predict their access to excellent educators. Low-income students and high-need schools tend to have teachers who are less experienced, have fewer credentials and do not demonstrate a track record of success.² For example, while we know there are many excellent first-year teachers, based on 2011-12 data from the Department's Civil Rights Data Collection, African American and American Indian students are four times as likely as white students to be enrolled in a school with more than twenty percent of first-year teachers, and Latino students are three times as likely.³ The Department helped spur States' efforts to increase equitable access to excellent Educators through its Excellent Educators for All Initiative, launched in July 2014, under which the Department required each SEA to submit a plan describing the steps it will take to ensure that “poor and minority children are not taught at higher rates than other children by inexperienced, unqualified, or out-of-field teachers,” as required by section 1111(b)(8)(C) of the ESEA, as amended by the No Child Left Behind Act of 2001. To date, all fifty states, the District of Columbia and Puerto Rico have approved plans to advance educator equity consistent with the requirements in the law. SEAs must continue to engage in educator equity efforts under section 1111(g)(1)(B) of the ESEA, as amended by the ESSA.

² See, e.g., Isenberg, Eric, et al. “Access to Effective Teaching for Disadvantaged Students. NCEE 2014-4001.” Institute of Education Sciences (2013): http://ies.ed.gov/ncee/pubs/20144001/pdf/20144001.pdf.

Sass, Tim, Jane Hannaway, Zeyu Xu, David Figlio, and Li Feng. “Value Added of Teachers in High-Poverty Schools and Lower-Poverty Schools.” Journal of Urban Economics, vol. 72, 2012, pp.104-122: http://www.sciencedirect.com/science/article/pii/S0094119012000216.

Tennessee Department of Education. “Tennessee's Most Effective Teachers: Are They Assigned to the Schools That Need Them Most?” Nashville, TN: Tennessee Department of Education, 2007: http://www.gtlcenter.org/webcasts/addressingInequities/Tennessee_McCargar.pdf.

³ U.S. Department of Education Office for Civil Rights, Civil Rights Data Collection: Data Snapshot (Teacher Equity) (March 21, 2014 (revised July 3, 2014)): http://ocrdata.ed.gov/Downloads/CRDC-Teacher-Equity-Snapshot.pdf.

Most SEAs started to implement approved plans in the 2015-16 school year; these plans can be found at www2.ed.gov/programs/titleiparta/resources.html. Based on Department review of these plans, and consistent with requirements that will take effect when ESSA is implemented, the Department believes TIF can support SEAs and LEAs in implementing strategies aimed at improving equitable access to effective Educators.

Priorities: This notice contains one absolute priority, two competitive preference priorities, and one invitational priority. The absolute priority aligns with the language of the 2016 Appropriations Act that authorizes funding for this competition, the notice of final priorities, requirements, definitions, and selection criteria for this program (TIF NFP), published in the Federal Register on June 14, 2012 (77 FR 35757), and basic provisions of ESSA's Teacher and School Leader Incentive Fund Grants Program (ESSA sections 2211 and 2212), which we adopt under the authority for an orderly transition to this Act contained in section 4(b) of the ESSA. The competitive preference priorities are from the Secretary's final supplemental priorities and definitions for discretionary grant programs (Supplemental Priorities) published in the Federal Register on December 10, 2014 (79 FR 73425) and basic provisions of ESSA's Teacher and Leader Incentive Fund Grants Program (ESSA sections 2211 and 2212), which we adopt under the authority for an orderly transition to this Act contained in section 4(b) of the ESSA.

Absolute Priority: For FY 2016, this priority is an absolute priority. Under 34 CFR 75.105(c)(3) we consider only applications that meet this priority.

The priority is:

An LEA-Wide Human Capital Management System (HCMS) With Educator Evaluation and Support Systems at the Center

To meet this priority, the applicant must include, in its application, a description of its LEA-wide HCMS, as it exists currently and with any modifications proposed for implementation during the project period of the grant. The application must describe—

(1) How the HCMS is or will be aligned with the LEA's vision of instructional improvement;

(2) How the LEA uses or will use the information generated by the Evaluation and Support System it describes in its application to inform key human capital decisions, such as decisions on recruitment, hiring, placement, retention, dismissal, compensation, professional development, tenure, and promotion;

(3) The human capital strategies the LEA uses or will use to ensure that High-Need Schools are able to attract and retain effective Educators; and

(4) Whether or not modifications are needed to an existing HCMS to ensure that it includes the features described in response to paragraphs (1), (2), and (3) of this priority, and a timeline for implementing the described features, provided that the use of evaluation information to inform the design and delivery of professional development and the award of performance-based compensation under the applicant's proposed Performance-based Compensation Systems in High-Need Schools begins no later than the third year of the grant's project period in the High-Need Schools listed in response to paragraph (a) of Requirement 2—Documentation of High-Need Schools.

Note: TIF funds can be used to support the costs of the systems and strategies described under this priority.

Competitive Preference Priorities: For FY 2016, these priorities are competitive preference priorities. Under 34 CFR 75.105(c)(2) we award an additional two points to an application that meets Competitive Preference Priority 1, and we award up to an additional five points to an application, depending on how well the application meets Competitive Preference Priority 2.

The priorities are:

Competitive Preference Priority 1—Supporting High-Need Students (0 or 2 points). Projects that are designed to improve academic outcomes for students served by Rural Local Educational Agencies.

Competitive Priority 2—Improving Teacher Effectiveness and Promoting Equitable Access to Effective Educators (up to 5 points). Projects that are designed to promote equitable access to effective teachers for students from low-income families and minority students across and within schools and districts.

For the purposes of this priority, teacher effectiveness must be measured using an Evaluation and Support System.

Within this competitive preference priority, we are particularly interested in applications that address the following invitational priority. Whether an LEA's TIF application addresses the competitive preference priority based on strategies they are already implementing or strategies they propose to implement, this invitational priority encourages LEAs to align their own strategies with the State Equity Plan.

Invitational Priority: Under 34 CFR 75.105(c)(1) we do not give an application that meets this invitational priority a competitive or absolute preference over other applications.

This priority is:

Invitational Priority—Promoting Equitable Access Through State Plans To Ensure Equitable Access to Excellent Educators: Applications that include a description of how the applicant's project promotes equitable access to effective Educators for students from low-income families and for minority students across and within districts, consistent with approved State Plans to Ensure Equitable Access to Excellent Educators.

Requirements: The following requirements are from the TIF 2012 NFP and the 2016 Appropriations Act.

Requirement 1—Implementation of Performance-based Compensation Systems: Each applicant must describe a plan to develop and implement Performance-based Compensation Systems for teachers, principals, and other personnel in High-Need Schools in LEAs, including charter schools that are LEAs.

Applications must: address how applicants will implement Performance-based Compensation Systems as defined in this notice. Applicants also must demonstrate that such Performance-based Compensation Systems are developed with the input of teachers and school leaders in the schools and LEAs to be served by the grant.

Requirement 2—Documentation of High-Need Schools: Each applicant must demonstrate, in its application, that the schools participating in the implementation of the TIF-funded Performance-based Compensation Systems are High-Need Schools (as defined in this notice), including High-Poverty Schools, Priority Schools, or Persistently Lowest-Achieving Schools. Each applicant must provide, in its application—

(a) A list of High-Need Schools in which the proposed TIF-supported Performance-based Compensation Systems would be implemented; and

(b) For each High-Poverty School listed, the most current data on the percentage of students who are eligible for free or reduced-price lunch subsidies under the Richard B. Russell National School Lunch Act or are considered students from low-income families based on another poverty measure that the LEA uses (see section 1113(a)(5) of the ESEA (20 U.S.C. 6313(a)(5))). Data provided to demonstrate eligibility as a High-Poverty School must be school-level data; the Department will not accept LEA- or State-level data for purposes of documenting whether a school is a High-Poverty School; and

(c) For any Priority Schools listed, documentation verifying that the State has received approval of a request for ESEA flexibility, and that the schools have been identified by the State as priority schools.

Definitions: The following definitions are from the TIF NFP, the Supplemental Priorities, the ESEA, as amended by the ESSA, and 34 CFR 77.1. The source of each definition is noted in parentheses following the text of the definition.

Educators means teachers and principals. (TIF NFP)

Evaluation and Support System means a system that is fair, rigorous, valid, reliable, and objective and reflects clear and fair measures of teacher, principal, or other school leader performance, based in part on demonstrated improvement in student academic achievement; and provides teachers, principals, or other school leaders with ongoing, differentiated, targeted, and personalized support and feedback for improvement, including professional development opportunities designed to increase effectiveness. (ESSA § 2212(c)(4) and (e)(2))

High-need school means:

(a) A high-poverty school, or

(b) A persistently lowest-achieving school, or

(c) In the case of States that have received the Department's approval of a request for ESEA flexibility, a priority school. (TIF NFP)

High-poverty school means a school with 50 percent or more of its enrollment from low-income families, based on eligibility for free or reduced-price lunch subsidies under the Richard B. Russell National School Lunch Act, or other poverty measures that LEAs use (see section 1113(a)(5) of the ESEA (20 U.S.C. 6313(a)(5)). For middle and high schools, eligibility may be calculated on the basis of comparable data from feeder schools. Eligibility as a high-poverty school under this definition is determined on the basis of the most currently available data. (TIF NFP)

Human capital management system (HCMS) means a system by which an LEA makes and implements human capital decisions, such as decisions on recruitment, hiring, placement, retention, dismissal, compensation, professional development, tenure, and promotion. (TIF NFP)

Logic model (also referred to as a theory of action) means a well-specified conceptual framework that identifies key components of the proposed process, product, strategy, or practice (i.e., the active “ingredients” that are hypothesized to be critical to achieving the relevant outcomes) and describes the relationships among the key components and outcomes, theoretically and operationally. (34 CFR 77.1)

Performance-based Compensation System means a system of compensation for teachers, principals, and other school leaders—

(A) That differentiates levels of compensation based in part on measurable increases in student academic achievement; and

(B) Which may include—

(i) Differentiated levels of compensation, which may include bonus pay, on the basis of the employment responsibilities and success of effective teachers, principals, and other school leaders in hard-to-staff schools or high-need subject areas; and

(ii) Recognition of the skills and knowledge of teachers, principals, and other school leaders as demonstrated through—

(I) Successful fulfillment of additional responsibilities or job functions, such as teacher leadership roles; and

(II) Evidence of professional achievement and mastery of content knowledge and superior teaching and leadership skills. (ESSA § 2211(b)(4))

Persistently lowest-achieving school means, as determined by the State:

(i) Any Title I school in improvement, corrective action, or restructuring that—

(a) Is among the lowest-achieving five percent of Title I schools in improvement, corrective action, or restructuring or the lowest-achieving five Title I schools in improvement, corrective action, or restructuring in the State, whichever number of schools is greater; or

(b) Is a high school that has had a graduation rate as defined in 34 CFR 200.19(b) that is less than 60 percent over a number of years; and

(ii) Any secondary school that is eligible for, but does not receive, Title I funds that—

(a) Is among the lowest-achieving five percent of secondary schools or the lowest-achieving five secondary schools in the State that are eligible for, but do not receive, Title I funds, whichever number of schools is greater; or

(b) Is a high school that has had a graduation rate as defined in 34 CFR 200.19(b) that is less than 60 percent over a number of years.

To identify the persistently lowest achieving schools, a State must take into account both:

(i) The academic achievement of the “all students” group in a school in terms of proficiency on the State's assessments under section 1111(b)(3) of the ESEA in reading/language arts and mathematics combined; and

(ii) The school's lack of progress on those assessments over a number of years in the “all students” group. (TIF NFP)

NOTE: For purposes of this definition, the Department considers schools that are identified as Tier I or Tier II schools under the School Improvement Grants program (see 75 FR 61363) as lowest performing schools.

Priority school means a school that has been identified by the State as a priority school pursuant to the State's approved request for ESEA flexibility. (TIF NFP)

Relevant outcome means the student outcome(s) (or the ultimate outcome if not related to students) the proposed process, product, strategy, or practice is designed to improve; consistent with the specific goals of a program. (34 CFR 77.1)

Rural local educational agency means an LEA that is eligible under the Small Rural School Achievement program or the Rural and Low-Income School program authorized under Title VI, Part B of the ESEA. Eligible applicants may determine whether a particular LEA is eligible for these programs by referring to information on the Department's Web site at www2.ed.gov/nclb/freedom/local/reap.html. (Supplemental Priorities)

Strong theory means a rationale for the proposed process, product, strategy, or practice that includes a logic model. (34 CFR 77.1)

Program Authority: Public Law 114-113, 2016 Appropriations Act; the ESEA, as amended by the ESSA.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 3485. (c) The Uniform Administrative Requirements, Cost Principles, and Audit Requirements for Federal Awards in 2 CFR part 200, as adopted and amended as regulations of the Department in 2 CFR part 3474. (d) The TIF NFP. (e) The Supplemental Priorities.

Note: The regulations in 34 CFR part 86 apply to institutions of higher education only.

II. Award Information

Type of Award: Discretionary grants.

Estimated Available Funds: $50,000,000-$70,000,000.

Contingent upon the availability of funds and the quality of applications, we may make additional awards in FY 2017 from the list of unfunded applications from this competition.

Estimated Range of Awards: $500,000-$12,000,000 for the first year of the project period.

Note: The Department estimates a wide range of awards given the potentially large differences in the scope of funded projects, including the size and number of participating LEAs.

Estimated Average Size of Awards: $10,000,000 for the first year of the project period. Funding for the second through fifth years of the project period is subject to the availability of funds and the approval of continuation awards (see 34 CFR 75.253).

Estimated Number of Awards: 5-10.

Note: The Department is not bound by any estimates in this notice.

Project Period: Up to 60 months.

III. Eligibility Information

1. Eligible Applicants:

(a) LEAs, including charter schools that are LEAs.

(b) States that apply with one or more LEAs.

(c) Nonprofit organizations that apply in partnership with one or more LEAs or an LEA and State.

2. Cost Sharing or Matching: This program does not require cost sharing or matching.

IV. Application and Submission Information

1. Address to Request Application Package

Vicki Robinson, U.S. Department of Education, 400 Maryland Avenue SW., Room 4W103, Washington, DC 20202-6200. Telephone: (202) 205-5471 or by email: TIF5@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission

Requirements concerning the content of an application, together with the forms you must submit, are in the application package for this program.

Notice of Intent to Apply: We will be able to develop a more efficient process for reviewing grant applications if we can anticipate the number of applicants that intend to apply for funding under this competition. Therefore, we strongly encourage each potential applicant to notify us of the applicant's intent to submit an application for funding by sending a short email message. This short email should provide (1) the applicant organization's name and address; and (2) all priorities the applicant intends to address. Please send this email notification to TIF5@ed.gov with “Intent to Apply” in the email subject line. Applicants that do not provide this email notification may still apply for funding and are not required to, or prohibited from, addressing priorities they do not mention in their notice of intent to apply.

Page Limit: The application narrative is where you, the applicant, address the selection criteria that reviewers use to evaluate your application. Please limit the application narrative to no more than 40 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The suggested page limit does not apply to the cover sheet; the budget section, including the narrative budget justification; the assurances and certifications; or the one-page abstract, the resumes, the bibliography, or the letters of support. However, the suggested page limit does apply to all of the application narrative.

b. Submission of Proprietary Information: Given the types of projects that may be proposed in applications for the TIF program, an application may include business information that the applicant considers proprietary. The Department's regulations define “business information” in 34 CFR 5.11.

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times

Applications Available: May 31, 2016.

Deadline for Notice of Intent to Apply: June 30, 2016.

Deadline for Transmittal of Applications: July 15, 2016.

Pre-application workshops will be held for this competition in the spring of 2016. The workshops are intended to provide technical assistance to all interested grant applicants. Detailed information regarding the pre-application workshops times, and online registration form, can be found on the Teacher Incentive Fund's Web site at http://innovation.ed.gov/what-we-do/teacher-quality/teacher-incentive-fund/.

Applications for grants under this program must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 28, 2016.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements

Applications for grants under this program must be submitted electronically unless you qualify for an exception to this requirement in accordance with the instructions in this section.

a. Electronic Submission of Applications

Applications for grants under the Teacher Incentive Fund, CFDA number 84.374A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Teacher Incentive Fund competition at www.Grants.gov. You must search for the downloadable application package for this program by the CFDA number. Do not include the CFDA number's alpha suffix in your search (e.g., search for 84.374, not 84.374A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable Portable Document format (PDF). Do not upload an interactive or fillable PDF file. If you upload a file type other than a read-only, non-modifiable PDF or submit a password-protected file, we will not review that material. Please note that this could result in your application not being considered for funding because the material in question—for example, the project narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail your statement to: Vicki Robinson, U.S. Department of Education, 400 Maryland Avenue SW., Room 4W103, Washington, DC 20202-6200.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.374A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.374A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210, the TIF NFP, and the 2016 Appropriations Act.

The maximum score for all the selection criteria is 100 points. The maximum score for each criterion is indicated in parentheses. The selection criteria for this competition are as follows:

(a) Significance (20 points) (34 CFR 75.210)

The Secretary considers the significance of the proposed project. In determining the significance of the proposed project, the Secretary considers the extent to which the proposed project is likely to build local capacity to provide, improve, or expand services that address the needs of the target population.

(b) Quality of the Project Design (45 Points) (34 CFR 75.210)

The Secretary considers the quality of the design of the proposed project. In determining the quality of the design of the proposed project, the Secretary considers the following factors:

(1) The extent to which the proposed project is part of a comprehensive effort to improve teaching and learning and support rigorous academic standards for students.

(2) The extent to which the services to be provided by the proposed project involve the collaboration of appropriate partners for maximizing the effectiveness of project services.

(3) The extent to which the proposed project is supported by a strong theory.

(4) The extent to which the proposed project will integrate with or build on similar or related efforts to improve relevant outcomes (as defined in 34 CFR 77.1(c)), using existing funding streams from other programs or policies supported by community, State, and Federal resources.

(c) Professional Development Systems to Support the Needs of Teachers and Principals Identified Through the Evaluation Process (15 Points) (TIF NFP)

The Secretary considers the extent to which each participating LEA has a high-quality plan for professional development to help all Educators located in High-Need Schools, listed in response to Requirement 2(a), to improve their effectiveness. In determining the quality of each plan for professional development, the Secretary considers the extent to which the plan describes how the participating LEA will use the disaggregated information generated by the proposed educator Evaluation and Support System to identify the professional development needs of individual Educators and schools.

(d) Quality of the Management Plan (15 Points) (34 CFR 75.210)

The Secretary considers the quality of the management plan for the proposed project. In determining the quality of the management plan for the proposed project, the Secretary considers the adequacy of the management plan to achieve the objectives of the proposed project on time and within budget, including clearly defined responsibilities, timelines, and milestones for accomplishing project tasks.

(e) Adequacy of Resources (5 Points) (2016 Appropriations Act; 34 CFR 75.210)

The Secretary considers the adequacy of resources for the proposed project. In determining the adequacy of resources for the proposed project, the Secretary considers the following factors:

(1) The extent to which the applicant demonstrates that Performance-based Compensation Systems are developed with the input of teachers and school leaders in the schools and local educational agencies to be served by the grant.

(2) The extent to which the applicant demonstrates a plan to sustain financially the activities conducted and systems developed under the grant once the grant period has expired.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: Pursuant to the Government Performance and Results Act of 1993, the Department has established the following performance measures that it will use to evaluate the overall effectiveness of the grantee's project, as well as the TIF program as a whole:

(a) The percentage of educators in all schools who earned performance-based compensation.

(b) The percentage of educators in all High-Need Schools who earned performance-based compensation.

(c) The gap between the retention rate of educators receiving performance-based compensation and the average retention rate in each high-need school.

(d) The number of school districts participating in a TIF grant that use educator evaluation systems to inform the following human capital decisions: Recruitment; hiring; placement; retention; dismissal; professional development; tenure; promotion; or all of the above.

(e) The percentage of performance-based compensation paid to educators with State, local, or other non-TIF Federal resources.

(f) The percentage of teachers and principals who receive the highest effectiveness rating.

(g) The percentage of teachers and principals in high-needs schools who receive the highest effectiveness rating.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Vicki Robinson, U.S. Department of Education, 400 Maryland Avenue SW., Room 4W103, Washington, DC 20202-6200. Telephone: (202) 205-5471 or by email: TIF5@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 25, 2016.
Nadya Chinoy Dabby,
Assistant Deputy Secretary for Office of Innovation and Improvement.

[FR Doc. 2016-12733 Filed 5-27-16; 8:45 am]

BILLING CODE 4000-01-P